DEPARTMENT OF AGRICULTURE

Forest Service

Information Collection; Forest Products Removal Permits and Contracts

AGENCY: Forest Service, USDA.

ACTION: Notice; request for comment.

SUMMARY: In accordance with the Paperwork Reduction Act of 1995, the Forest Service is seeking comments from all interested individuals and organizations on the renewal with revisions of a currently approved information collection, Forest Products Removal Permits and Contracts. The revision pertains to the inclusion of the sale of Christmas trees through Rec.gov. The agency began providing that option in calendar year 2020, and the public may now buy—and print—a Christmas tree permit online versus traveling to a Forest Service office. The option to purchase a permit in-person is still available.

DATES: Comments must be received in writing on or before October 5, 2021 to be assured of consideration. Comments received after that date will be considered to the extent practicable.

ADDRESSES: Commenters are encouraged to submit comments by email, if possible. You may submit comments by any of the following methods:

• Email: glen.vanzandt@usda.gov.

• Mail: Director, Forest Management, USDA, P.O. Box 96090, Washington, DC 20090-6090.

• Hand Delivery/Courier: Forest Service, USDA, 1400 Independence Avenue SW, Mailstop 1103, Washington, DC 20250.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may request an electronic copy of the draft supporting statement and/or any comments received be sent via return email. Requests should be emailed to glen.vanzandt@usda.gov.

FOR FURTHER INFORMATION CONTACT: Glen Van Zandt, Forest Management Staff, by phone 202-617-1095 or by email at glen.vanzandt@usda.gov. Individuals who use telecommunication devices for the hearing-impaired (TDD) may call the Federal Information Relay Service (FIRS) at 1-800-877-8339 24 hours a day, every day of the year, including holidays.

SUPPLEMENTARY INFORMATION:

Title: Forest Products Removal Permits and Contracts.

OMB Number: 0596-0085.

Expiration Date of Approval: December 31, 2021.

Type of Request: Renewal with revisions of a currently approved information collection.

Abstract: Under 16 U.S.C. 551 Protection of National Forests; Rules and Regulations, individuals and businesses wishing to remove forest products from National Forest System lands must request a permit. To obtain a permit, applicants must meet the criteria at 36 CFR 223.1, 223.2, and 223.5-223.13, which authorizes free use or sale of timber or forest products.

Under the Food, Conservation, and Energy Act of 2008 (Pub. L. 110-246, 122 Stat. 1651) section 8105 Forest Products for Traditional and Cultural Purposes [hereinafter referred to as “section 8105”], federally recognized Indian tribes may make a request for free use of trees, portions of trees, or forest products for traditional and cultural purposes, provided the use will not be for commercial purposes. Section 8105 has been codified in 25 U.S.C. chapter 32A Cultural and Heritage Cooperation Authority, section 3055 Forest Products for Traditional and Cultural Purposes (25 U.S.C. 3055). Additionally, Forest Service issued final implementation regulations, for section 8105, at 36 CFR 223.15 Provision of Trees, Portions of Trees, or Forest Products to Indian Tribes for Traditional and Cultural Purposes.

Indian tribes seeking products, under section 8105 authority, must make a request for free use, following the criteria at 36 CFR 223.15, which includes: “Requests for trees, portions of trees, or forest products . . . must be submitted to the local Forest Service District Ranger's Office(s) in writing. Requests may be made: (1) Directly by a tribal official(s) who has been authorized by the Indian tribe to make such requests; or (2) By providing a copy of a formal resolution approved by the tribal council or other governing body of the Indian tribe.” Note: There is no stated maximum free use limitation for products requested by Indian tribes, and there is no limitation to the number of requests that each federally recognized Indian tribe may make, under section 8105 authority. Should federally recognized Indian tribes seeking such use wish to obtain proof of possession, as may be required in some States, they could be issued a FS-2400-8 permit which allows use of timber or forest products at no charge (36 CFR 223.5-223.13).

Upon receiving a permit, the permittee must comply with the terms of the permit (36 CFR 261.6), which designates the forest products that can be harvested and under what conditions, such as limiting harvest to a designated area or permitting harvest of only specifically designated material. The collected information will help the Forest Service and the Bureau of Land Management (for form FS-2400-1) oversee the approval and use of forest products by the public.

When applying for forest product removal permits, applicants (depending on the products requested) would provide information needed to complete one of the following:

• FS-2400-1, Forest Products Removal Permit and Cash Receipt, is used to sell timber or forest products such as, but not limited to, fuelwood, Christmas trees, or pine cones (36 CFR 223.1, 223.2). The Bureau of Land Management identifies the FS-2400-1 as BLM-5450-24 (43 U.S.C. 1201, 43 CFR 5420). This form would not be used to issue products requested by federally recognized Indian tribes under section 8105 authority. In addition, beginning in calendar year 2020, the agency has made the option available to the public to use Recreation.gov to secure a permit online for Christmas trees at many forests and print it out at home instead of traveling to a Forest Service office to get the permit there.

• FS-2400-4/FS-2400-4ANF, Forest Products Contract and Cash Receipt, are used to sell timber products such as sawtimber or forest products such as, but not limited to, fuelwood, or posts and poles. These forms would not be used to issue products requested by federally recognized Indian tribes under section 8105 authority.

• FS-2400-8, Forest Products Free Use Permit, allows use of timber or forest products at no charge to the permittee (36 CFR 223.5-223.13). This form could be used to issue products requested by federally recognized Indian tribes under section 8105 authority.

Each form listed above implements different regulations and has different provisions for compliance but collects similar information from the applicant for related purposes.

The Forest Service and the Bureau of Land Management will use the information collected on form FS-2400-1 to ensure identification of permittees in the field by agency personnel. The Forest Service will use the information collected on forms FS-2400-4/FS-2400-4ANF and/or FS-2400-8 to:

• Ensure that permittees obtaining free use of timber or forest products qualify for the free-use program.

• Ensure that permittees obtaining free use of timber or forest products, under 36 CFR 223.8, do not receive product value in excess of that allowed by regulations. However, as noted above for federally recognized Indian Tribe requests made under section 8105 authority, there is no stated maximum free use limitation (25 U.S.C. 3055).

• Ensure that applicants purchasing timber harvest or forest products permits non-competitively do not exceed the authorized limit in a fiscal year (16 U.S.C. 472(a)).

• Ensure identification of permittees, in the field, by Forest Service personnel.

Applicants may apply for more than one forest product permit or contract per year. For example, an applicant may obtain a free use permit for a timber product such as, but not limited to, pine cones (FS-2400-8) and still purchase fuelwood (FS-2400-1, and/or FS-2400-4/2400-4ANF). Additionally, as noted above, there is no limitation to the number of requests that each federally recognized Indian tribe may make under section 8105 authority (25 U.S.C. 3055).

Individuals and small business representatives usually request and apply for permits and contracts in person at the office issuing the permit. As noted above, Indian tribes seeking products under section 8105 authority must make a written request for free use, following the criteria at 36 CFR 223.15.

Applicants provide the following information, as applicable:

• Name,

• Address, and

• Personal identification number such as tax identification number, driver's license number, or other unique number identifying the applicant.

Agency personnel enter the information into a computerized database to use for subsequent requests by applicants for a forest product permit or contract. The information is printed on paper, which the applicant signs and dates. Agency personnel discuss the terms and conditions of the permit or contract with the applicant.

For Christmas tree permits purchased through the Recreation.gov website, a user is required to have an account which requires first name, last name, email address and mobile phone number.

The data gathered is not available from other sources. The collected data is used to ensure:

• Applicants for free use permits meet the criteria for free use of timber or forest products authorized by regulations at 36 CFR 223.5-223.13; and, for federally recognized Indian tribes under section 8105 authority, the criteria at 36 CFR 223.15;

• Applicants seeking to purchase and remove timber or forest products from Agency lands meet the criteria under which sale of timber or forest products is authorized by regulations at 36 CFR 223.80; and

• Permittees comply with regulations and terms of the permit at 36 CFR 261.6.

The collection of this information is necessary to ensure that applicants meet the requirements of the forest products program; that those obtaining free-use permits for forest products qualify for the program; that applicants purchasing non-competitive permits to harvest forest products do not exceed authorized limits; and that Federal Agency employees can identify permittees when in the field.

Estimate of Annual Burden: 5 minutes.

Type of Respondents: Individuals, small businesses, and, for requests made under section 8105 of the Food, Conservation, and Energy Act of 2008 (Pub. L. 110-246, 122 Stat. 1651), federally recognized Indian tribes.

Estimated Annual Number of Respondents: 192,224.

Estimated Annual Number of Responses per Respondent: 2.

Estimated Total Annual Burden on Respondents (hours): 32,037.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

Dated: August 3, 2021.
Barnie Gyant,
Associate Deputy Chief, National Forest System.

[FR Doc. 2021-16829 Filed 8-5-21; 8:45 am]

BILLING CODE 3411-15-P